DEPARTMENT OF TRANSPORTATION

Federal Aviation Administration

Notice of Intent To Rule on Application To Impose and Use the Revenue From a Passenger Facility Charge (PFC) at Valdosta Regional Airport, Valdosta, GA

AGENCY: Federal Aviation Administration (FAA), DOT.

ACTION: Notice of intent to rule on application.

SUMMARY: The FAA proposes to rule and invites public comment on the application to impose and use the revenue from a PFC at Valdosta Regional Airport under the provisions of the Aviation Safety and Capacity Expansion Act of 1990 (title IX of the Omnibus Budget Reconciliation Act of 1990) (Pub. L. 101-508) and part 158 of the Federal Aviation Regulations (14 CFR part 158).

DATES: Comments must be received on or before October 14, 2003.

ADDRESSES: Comments on this application may be mailed or delivered in triplicate to the FAA at the following address: Atlanta Airports District Office, Federal Aviation Administration, DOT, 1701 Columbia Avenue, Suite 2-260, College Park, Georgia 30337-2747.

In addition, one copy of any comments submitted to the FAA must be mailed or delivered to Mr. Robert H. Holliway, Executive Director of the Valdosta-Lowndes County Airport Authority at the following address: 1750 Airport Road, Suite 1, Valdosta, Georgia 31601.

Air carriers and foreign air carriers may submit copies of written comments previously provided to the Valdosta-Lowndes County Airport Authority under § 158.23 of part 158.

FOR FURTHER INFORMATION CONTACT: Philip Cannon, Program Manager, Atlanta Airports District Office, 1701 Columbia Avenue, Suite 2-260, College Park, Georgia 30337-2747, (404) 305-7152.

The application may be reviewed in person at this same location.

SUPPLEMENTARY INFORMATION: The FAA proposes to rule and invites public comment on the application to use the revenue from a PFC at Valdosta Regional Airport under the provisions of the Aviation Safety and Capacity Expansion Act of 1990 (Title IX of the Omnibus Budget Reconciliation Act of 1990) (Pub. L. 101-508) and part 158 of the Federal Aviation Regulations (14 CFR part 158).

On August 28, 2003 the FAA determined that the application to the revenue from a PFC submitted by Valdosta-Lowndes County Airport Authority was substantially complete within the requirements of section 158.25 of part 158. The FAA will approve or disapprove the application, in whole or in part, no later than December 17, 2003.

The following is a brief overview of the application.

PFC Application No.: 03-06-C-00-VLD.

Level of the proposed PFC: $4.50.

Proposed charge effective date: November 1, 2003.

Proposed charge expiration date: November 1, 2006.

Total estimated PFC revenue: $355,100.

Brief description of proposed project(s):

Prepare PFC application 00-04-C-00-VLD

Prepare PFC application 01-05-C-00-VLD

Prepare PFC application 03-06-C-00-VLD

Overlay taxiway “A” and six connecting stubs

Acquire easement off ends of runway 4/22

Mark runway 4/22 for non-precision approaches

Expand commuter apron

Environmental assessment for runway 17/35 extension

Extend taxiway “M”

Extend runway 17/35

Airfield fencing

Upgrade tower communications

Land acquisition

Class or classes of air carriers which the public agency has requested not be required to collect PFCs: Non-scheduled large certified route air carriers filing RSPA form T-100.

Any person may inspect the application in person at the FAA office listed above under FOR FURTHER INFORMATION CONTACT.

In addition, any person, may upon request, inspect the application, notice and other documents germane to the application in person at the Valdosta-Lowndes County Airport Authority.

Issued in College Park, Georgia on September 3, 2003.
Scott L. Seritt,
Manager, Atlanta Airports District Office, Southern Region.

[FR Doc. 03-23184 Filed 9-10-03; 8:45 am]

BILLING CODE 4910-13-M